DEPARTMENT OF THE INTERIOR

Bureau of Land Management

[WY-920-09-1320-EL, WYW163613]

Coal Lease Exploration License, WY

AGENCY: Bureau of Land Management, Interior.

ACTION: Notice of Invitation for Coal Exploration License.

SUMMARY: Pursuant to section 2(b) of the Mineral Leasing Act of 1920, as amended by section 4 of the Federal Coal Leasing Amendments Act of 1976, 90 Stat. 1083, 30 U.S.C. 201 (b), and to the regulations adopted as 43 CFR 3410, all interested parties are hereby invited to participate with Bridger Coal Company on a pro rata cost sharing basis in its program for the exploration of coal deposits owned by the United States of America in the following-described lands in Sweetwater County, WY:

T. 22 N., R. 101 W., 6th P.M., Wyoming

Sec. 22: Lots 1-16;

Sec. 24: Lots 1-15, NW¼NE¼.

Containing 1,278.74 acres, more or less.

All of the coal in the above-described land consists of unleased Federal coal within the Rock Springs Known Recoverable Coal Resources Area. The purpose of the exploration program is to obtain coal quality data and to further quantify this particular reserve base inclusive of adjacent private and state lands. The proposed exploration program is fully described and will be conducted pursuant to an exploration plan to be approved by the Bureau of Land Management.

ADDRESSES: Copies of the exploration plan are available for review during normal business hours in the following offices (serialized under number WYW163613): Bureau of Land Management, Wyoming State Office, 5353 Yellowstone Road, P.O. Box 1828, Cheyenne, WY 82003; and Bureau of Land Management, Rock Springs Field Office, 280 Highway 191 North, Rock Springs, WY 82901. The written notice to participate in the exploration program should be sent to both of the following addresses: Bridger Coal Company, c/o Interwest Mining Company, Attn: Scott M. Child, One Utah Center, Suite 2100, 201 South Main Street, Salt Lake City, UT 84111, and the Bureau of Land Management, Wyoming State Office, Branch of Solid Minerals, Attn: Julie Weaver, P.O. Box 1828, Cheyenne, WY 82003.

SUPPLEMENTARY INFORMATION: This notice of invitation will be published in the “Rocket-Miner” of Rock Springs, WY, once each week for two consecutive weeks beginning the week of July 11, 2005, and in the Federal Register. Any party electing to participate in this exploration program must send written notice to both the Bureau of Land Management and Bridger Coal Company, as provided in the ADDRESSES section above, no later than 30 days after publication of this invitation in the Federal Register. The foregoing is published in the Federal Register pursuant to 43 CFR 3410.2-1(c)(1).

Dated: May 25, 2005.
Alan Rabinoff,
Deputy State Director, Minerals and Lands.

[FR Doc. 05-13884 Filed 7-13-05; 8:45 am]

BILLING CODE 4310-22-P